DEPARTMENT OF THE INTERIOR

Bureau of Indian Affairs

Renewal of Agency Information Collection for No Child Left Behind Act Implementation; Request for Comments

AGENCY: Bureau of Indian Affairs, Interior.

ACTION: Notice of request for comments.

SUMMARY: In compliance with the Paperwork Reduction Act of 1995, the Bureau of Indian Education (BIE) is seeking comments on renewal of Office of Management and Budget (OMB) approval for the collection of information for implementation of the No Child Left Behind Act. The information collection is currently authorized by OMB Control Number 1076-0163, which expires December 31, 2010.

DATES: Interested persons are invited to submit comments on or before October 25, 2010.

ADDRESSES: You may submit comments on the information collection to Dr. Jim Martin, Bureau of Indian Education, Mail Stop 3609-MIB, 1849 C Street, NW., Washington, DC 20240; facsimile: (202) 208-3312; e-mail: Brandi.Sweet@bie.edu.

FOR FURTHER INFORMATION CONTACT: Brandi Sweet (202) 208-5504.

SUPPLEMENTARY INFORMATION:

I. Abstract

BIE is seeking renewal of the approval for the information collection conducted under 25 CFR parts 30, 37, 39, 42, 44, and 47 under OMB Control Number 1076-0163. This information collection is necessary to implement Public Law 107-110, No Child Left Behind Act of 2001 (NCLB). The NCLB requires all schools, including BIE-funded schools, to ensure that all children receive a fair, equal, and significant opportunity to obtain a high quality education and reach, at a minimum, proficiency on challenging academic achievement standards and assessments. The BIE is required to monitor programs, gather data, and complete reports for the U.S. Department of Education. BIE relies on schools to prepare required documentation, such as the Annual Report; the School Report Card; Section 1114 Plans; financial budgets; school improvement plans; compliance action plans as a result of monitoring; Title II, Part A reports on highly qualified staff; Title IV, Part A, Safe and Drug Free Schools and Communities reports; competitive sub-grant reports,; Indian School Equalization Programs (ISEP) reports; the Native American Student Information System (NASIS) reports; and transportation reports. There is no change to the approved burden hours for this information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0163.

Title: No Child Left Behind, 25 CFR 30, 37, 39, 42, 44, and 47.

Brief Description of Collection: Pursuant to NCLB, BIE-funded schools must prepare reports such as the Annual Report; the School Report Card; Section 1114 Plans; financial budgets; school improvement plans; compliance action plans as a result of monitoring; Title II, Part A reports showing that highly qualified staff have been hired; Title IV, Part A, Safe and Drug Free Schools and Communities reports; competitive sub-grant reports; Indian School Equalization (ISEP) reports; and transportation reports. Response is required to obtain a benefit (continued supplementary program funding).

Type of Review: Extension without change of a currently approved collection.

Respondents: BIE-funded schools.

Number of Respondents: 184.

Total Number of Responses: 706.

Frequency of Response: Quarterly or annually, depending on the item.

Estimated Time per Response: Ranges from 1 hour to 48 hours (30 per response on average).

Estimated Total Annual Burden: 21,180 hours.

Dated: August 12, 2010.
Alvin Foster,
Acting Chief Information Officer—Indian Affairs.

[FR Doc. 2010-21089 Filed 8-24-10; 8:45 am]

BILLING CODE 4310-4J-P